SMALL BUSINESS ADMINISTRATION

13 CFR Part 121

Small Business Size Standards; Waiver of the Nonmanufacturer Rule

AGENCY: Small Business Administration.

ACTION: Final decision to waive the nonmanufacturer rule.

SUMMARY: This document advises the public that the U.S. Small Business Administration (SBA) is establishing a waiver of the Nonmanufacturer Rule for Small Arms Ammunition Manufacturing. The basis for waivers is that no small business manufacturers are available to participate in the Federal market for these products. The effect of a waiver will allow otherwise qualified nonmanufacturers to supply the products of any domestic manufacturer on a Federal contract set aside for small business or awarded through the SBA 8(a) Program.

EFFECTIVE DATE: September 6, 2002.

FOR FURTHER INFORMATION CONTACT: Edith Butler, Program Analyst, U.S. Small Business Administration, 409 3rd Street, SW., Washington DC 20416 Tel: (202) 619-0422.

SUPPLEMENTARY INFORMATION: Public Law 100-656, enacted on November 15, 1988, incorporated into the Small Business Act the previously existing regulation that recipients of Federal contracts set aside for small business or SBA 8(a) Program procurement must provide the product of a small business manufacturer or processor, if the recipient is other than the actual manufacturer or processor. This requirement is commonly referred to as the Nonmanufacturer Rule. The SBA regulations imposing this requirement are found at 13 CFR 121.406(b) and section 303(h) of the law provides for waiver of this requirement by SBA for any “class of products” for which there are no small business manufacturers or processors in the Federal market. To be considered available to participate in the Federal market on these classes of products, a small business manufacturer must have submitted a proposal for a contract solicitation or received a contract from the Federal Government within the last 24 months.

The SBA defines “class of products” based on six digit coding systems. The North American Industry Classification System (NAICS) replaced the Standard Industrial Classification (SIC) code. The second is the Product and Service Code established by the Federal Procurement Data System.

This document waives the Nonmanufacturer Rule for Small Arms Ammunition Manufacturing, North American Industry Classification System (NAICS) 332992.

Documents proposing to waive the nonmanufacturer rule for Small Arms Ammunition Manufacturing was published in the Federal Register June 7, 2002 (66 FR 39311) and on August 2, 2002 (66 FR 50383). No comments were received.

Linda G. Williams,
Associate Administrator for Government Contracting.

[FR Doc. 02-22649 Filed 9-5-02; 8:45 am]

BILLING CODE 8025-01-P